DEPARTMENT OF DEFENSE

Office of the Secretary

[Docket ID: DOD-2008-OS-0161]

Privacy Act of 1974; System of Records

AGENCY: Defense Information Systems Agency, DoD.

ACTION: Notice to Delete Two Systems of Records.

SUMMARY: The Defense Information Systems Agency is deleting two systems of records notices in its existing inventory of records systems subject to the Privacy Act of 1974, (5 U.S.C. 552a), as amended.

DATES: This proposed action will be effective without further notice on January 21, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The Defense Information Systems Agency proposes to delete two systems of records notices from its inventory of record systems subject to the Privacy Act of 1974 (5 U.S.C. 552a), as amended. The proposed deletions are not within the purview of subsection (r) of the Privacy Act of 1974, (5 U.S.C. 552a), as amended, which requires the submission of a new or altered system report.

Dated: December 16, 2008.
Morgan E. Frazier,
Alternate OSD Federal Register Liaison Officer, Department of Defense.

Deletions:

K105.01

Confidential State of Notice and Financial Interest (February 22, 1993, 58 FR 10562).

Reason:

Defense Information Systems Agency is using the Government-wide Systems of Records “OGE/GOVT 1” and OGE/GOVT 2” that covers the SF 278 Form and the OGE 450 Form for all of the Federal government. Agency-specific systems of records are no longer necessary.

K232.01

Travel Orders Records System (February 22, 1993, 58 FR 10562).

Reason:

The Defense Finance and Accounting maintains a DoD-Wide notice, Defense Travel System which was published in the Federal Register on September 8, 2004, 69 FR 54272.

[FR Doc. E8-30417 Filed 12-19-08; 8:45 am]

BILLING CODE 5001-06-P